ENVIRONMENTAL PROTECTION AGENCY

40 CFR Part 180

[EPA-HQ-OPP-2021-0789; FRL-12976-01]

Glufosinate; Pesticide Tolerances

Correction

In rule document 2025-20399, appearing on page 52252 in the issue of Thursday, November 20, 2025, make the following correction:

§ 180.473 Glufosinate; tolerances for residues [Corrected].

1. On page 52256, in the third column, in “Table 1 to Paragraph (a)(1)”, the text in footnote two that reads “May 20, 2025” is corrected to read “May 20, 2026.”

[FR Doc. C1-2025-20399 Filed 2-13-26; 8:45 am]

BILLING CODE 0099-10-P